FEDERAL MARITIME COMMISSION

Ocean Transportation Intermediary License

Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Geomarine Shipping Inc., 104 S. Central Ave., Suite 18, Valley Stream, NY 11580, Officers: Philip NG, General Manager/President, (Qualifying Individual), Li Li Wang, Vice President

J.M.C. Transport Corporation 9133 So. La Cienega Blvd., #120, Inglewood, CA 90301, Officer: Matthew Ma, CEO (Qualifying Individual)

Italian Seaways International, 11700 N.W. 100 Road, Medley, FL 33178, Officer: Alexis Roldos, President (Qualifying Individual)

Management Consultant Brokerage, Inc., 802-414 Bergen Street, Newark, NJ 07108, Officers: Joseph Noonan, Secretary (Qualifying Individual), Suzanne Noonan, President

Transmate Logistics Corp., 14928 S. Figueroa Street, Gardena, CA 90248, Officer: Jung Mee Park, President (Qualifying Individual)

Westham Trade Co. Ltd., 2100 Northwest 102nd Place, Miami, FL 33172, Officer: Francisco Celedon, President (Qualifying Individual)

Total Freight Service Inc., 10640 Daines Drive, Temple City, CA 91780, Officer: Xiao Ming Yao, Account Manager (Qualifying Individual)

Freightsmart.com, Inc. d/b/a Saskia Container Lines, 4615 Post Oak Place, Suite 145, Houston, TX 77027, Officers: William M. Staib, President (Qualifying Individual), Ofer Levy, Vice President

Miami Shipping Services Inc., 6225 S.W. 87th Avenue, Miami, FL 33173, Officer: Ricardo Arango, President (Qualifying Individual)

Mar-Line Co., 3400 Mesa Drive, Houston, TX 77013-3820, Officers: Hector Garza, President (Qualifying Individual), Gloria Razo, Vice President

Trans State Logistics, Inc., 3734 W. Century Blvd., Unit #7, Inglewood, CA 90303, Officers: Samantha Nguyen, Secretary (Qualifying Individual), Kan Shing Cheng, CEO

Simpson's Shipping Enterprise, 166 West First Street, Mount Vernon, NY 10550, Officers: George Simpson, Active Management Partner (Qualifying Individual), Linda Morris Simpson, Partner

Non-Vessel Operating Common Carrier and Ocean Freight Forwarder Transportation Intermediary Applicants

Trans-Am Container Line, Inc., 116 W. Hazel Street, Inglewood, CA 90302, Officers: Chan, Cheuk See, Vice President (Qualifying Individual), Lam, Yuen Sum, President

Sofilink Logistics Incorporated, 6810 N.W. 82nd Avenue, Miami, FL 33166, Officer: Nelson A. Guillen, President (Qualifying Individual)

Distribution Support Systems, Inc., 6454 East Taft Road, East Syracuse, NY 13057, Officer: James J. Duffy, President (Qualifying Individual)

Vipex Consolidators, Inc., 8478 N.W. 72nd Street, Miami, FL 33166, Officer: Maria del Carmen Rodriguez, President (Qualifying Individual)

New World Logistics, Inc., 1304 Municipal Drive, Roanoke, VA 24012, Officer: Rickey Gene Roberts, President (Qualifying Individual)

Ocean Freight Forwarder—Ocean Transportation Intermediary Applicants

Manila Forwarders, LLC, 3916 Eagle Rock Blvd., Los Angeles, CA 90065, Officers: Manuel Paez, President (Qualifying Individual), George de Guzman, Director

South Florida Auto Terminal d/b/a Autoterminal.com, 4401 McIntosh Drive, Ft. Lauderdale, FL 33316, Officers: Mercedes Leone, Secretary (Qualifying Individual)

Dockside Management, Inc., 8405 N.W. 53rd Street, Suite A-104 Miami, FL 33166, Officer: Clara M. Faya, Vice President (Qualifying Individual)

Allegheny Brokers Company, Inc., 5389 C.V. Jackson Road, Suite #1 New River Valley Airport, Dublin, VA 24084, Officers: Mathews C. Herring, Vice President (Qualifying Individual), James Loux, President

Mares Shreve & Associates Inc., 1035 Andover Park West, Suite 110, Tukwila, WA 98188, Officers: Janice L. Williams, President (Qualifying Individual), Daniel A. Sanchez, Vice President

March 30, 2001.
Bryant L. VanBrakle,
Secretary.

[FR Doc. 01-8289 Filed 4-3-01; 8:45 am]

BILLING CODE 6730-01-P